DEPARTMENT OF COMMERCE

National Oceanic and Atmospheric Administration

50 CFR Part 679

[Docket No. 230306-0065; RTID 0648-XC988]

Fisheries of the Exclusive Economic Zone Off Alaska; Rock Sole, Flathead Sole, Alaska Plaice, and Other Flatfish in the Herring Savings Areas of the Bering Sea and Aleutian Islands Management Area

AGENCY: National Marine Fisheries Service (NMFS), National Oceanic and Atmospheric Administration (NOAA), Commerce.

ACTION: Temporary rule; closure.

SUMMARY: NMFS is prohibiting directed fishing for rock sole, flathead sole, Alaska plaice, and other flatfish by vessels using trawl gear in the Herring Savings Areas of the Bering Sea and Aleutian Islands (BSAI). This action is necessary to prevent exceeding the 2023 herring bycatch allowance specified for the rock sole, flathead sole, Alaska plaice, and other flatfish fisheries in the BSAI. This action includes prohibiting directed fishing for rock sole, flathead sole, other flatfish by vessels participating in the Community Development Quota Program.

DATES: Effective 1200 hours, Alaska local time (A.l.t.), June 15, 2023, through 1200 hours, A.l.t., March 1, 2024.

FOR FURTHER INFORMATION CONTACT: Obren Davis, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2023 herring bycatch allowance specified for the rock sole, flathead sole, Alaska plaice, and other flatfish fisheries in the BSAI is 99 metric tons as established by the final 2023 and 2024 harvest specifications for groundfish in the BSAI (88 FR 14926, March 10, 2023).

The Administrator, Alaska Region, and NMFS, has determined that the 2023 herring bycatch allowance specified for the rock sole, flathead sole, Alaska plaice, and other flatfish fisheries in the BSAI has been caught. Consequently, in accordance with § 679.21(e)(7)(vi), NMFS is closing directed fishing for rock sole, flathead sole, Alaska plaice, and other flatfish by vessels using trawl gear in the three Herring Savings Areas of the BSAI. The Summer Herring Savings Area 1 is that part of the Bering Sea subarea that is south of 57°N latitude and between 162°W longitude and 164°W longitude from 1200 hours, A.l.t., June 15, 2023 through 1200 hours, A.l.t., July 1, 2023. The Summer Herring Savings Area 2 is that part of the Bering Sea subarea that is south of 56°30″N latitude and between 164°W longitude and 167°W longitude from 1200 hours, A.l.t., July 1, 2023 through 1200 hours A.l.t., August 15, 2023. The Winter Herring Savings Area is that part of the Bering Sea subarea that is between of 58° and 60°N latitude and between 172°W longitude and 175°W longitude from 1200 hours, A.l.t., September 1, 2023 through 1200 hours, A.l.t., March 1, 2024.

While this closure is effective, the maximum retainable amounts at § 679.20(e) and (f) apply at any time during a trip.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion, and would delay the closure of directed fishing for rock sole, flathead sole, Alaska plaice, and other flatfish by vessels using trawl gear in the Summer and Winter Herring Savings Areas of the BSAI. NMFS was unable to publish a notice providing time for public comment because the most recent, relevant data only became available as of June 9, 2023.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: June 12, 2023.
Jennifer M. Wallace,
Acting Director, Office of Sustainable Fisheries, National Marine Fisheries Service.

[FR Doc. 2023-12836 Filed 6-14-23; 8:45 am]

BILLING CODE 3510-22-P